DEPARTMENT OF HOMELAND SECURITY

Coast Guard

[Docket No. USCG-2017-0240]

National Offshore Safety Advisory Committee

AGENCY: Coast Guard, Department of Homeland Security.

ACTION: Notice of Federal Advisory Committee meeting.

SUMMARY: The National Offshore Safety Advisory Committee and its Subcommittee will hold meetings in New Orleans, Louisiana to discuss the safety of operations and other matters affecting the offshore oil and gas industry. These meetings are open to the public.

DATES: The Safety Management Systems on Vessels Engaging in Well Intervention Activities Subcommittee of the National Offshore Safety Advisory Committee will meet on Tuesday, May 16, 2017 from 1 p.m. to 3 p.m. and the full Committee will meet on Wednesday, May 17, 2017, from 8 a.m. to 5:30 p.m. (All times are Central Daylight Time). These meetings may end early if the Committee has completed its business, or they may be extended based on the number of public comments.

ADDRESSES: The meetings will be held at the Omni Riverfront Hotel, 701 Convention Center Boulevard, New Orleans, Louisiana 70130. Omni Riverfront Hotel.

For information on facilities or services for individuals with disabilities, or to request special assistance at the meetings, contact the individuals listed in the FOR FURTHER INFORMATION CONTACT section as soon as possible.

Instructions: You are free to submit comments at any time, including orally at the meetings, but if you want committee members to review your comment before the meetings, please submit your comments no later than April 24, 2017. We are particularly interested in comments on the issues in the “Agenda” section below. You must include “Department of Homeland Security” and the docket number USCG-2017-0240. Written comments may also be submitted using the Federal eRulemaking Portal at http://www.regulations.gov. If you encounter technical difficulties with comment submission, contact the individuals listed in the FOR FURTHER INFORMATION CONTACT section below. Comments received will be posted without alteration at http://www.regulations.gov, including any personal information provided. You may review a Privacy Act notice regarding the Federal Docket Management System in the March 24, 2005, issue of the Federal Register (70 FR 15086).

Docket Search: For access to the docket or to read documents or comments related to this notice, go to http://www.regulations.gov, insert USCG-2017-0240 in the Search box, press Enter, and then click on the item you wish to view.

A public oral comment period will be held during the meeting on May 17, 2017, and speakers are requested to limit their comments to 3 minutes. Contact one of the individuals listed below to register as a speaker.

FOR FURTHER INFORMATION CONTACT: Commander Jose Perez, Designated Federal Officer of the National Offshore Safety Advisory Committee, Commandant (CG-OES-2), United States Coast Guard, 2703 Martin Luther King Jr. Avenue Southeast, Stop 7509, Washington, DC 20593-7509; telephone (202) 372-1410, fax (202) 372-8382 or email jose.a.perez3@uscg.mil, or Mr. Patrick Clark, telephone (202) 372-1358, fax (202) 372-8382 or email Patrick.w.clark@uscg.mil.

SUPPLEMENTARY INFORMATION: Notice of this meeting is in compliance with the Federal Advisory Committee Act, Title 5 United States Code Appendix. The National Offshore Safety Advisory Committee provides advice and recommendations to the Department of Homeland Security on matters and actions concerning activities directly involved with or in support of the exploration of offshore mineral and energy resources insofar as they relate to matters within United States Coast Guard jurisdiction.

A copy of all meeting documentation will be available at https://homeport.uscg.mil/nosac no later than April 16, 2017. Alternatively, you may contact Mr. Patrick Clark as noted in the FOR FURTHER INFORMATION CONTACT section above.

Agenda

Day 1

The National Offshore Safety Advisory Committee's Subcommittee on “Safety Management Systems on Vessels Engaging in Well Intervention Activities” will meet on May 16, 2017 from 1 p.m. to 3 p.m. to review, discuss, and formulate recommendations.

Day 2

The National Offshore Safety Advisory full Committee will hold a public meeting on May 17, 2017 from 8 a.m. to 5:30 p.m. (Central Daylight Time) to review and discuss the progress of, and any reports and recommendations received from, the above listed Subcommittee from their deliberations on May 16, 2017. The Committee will then use this information and consider public comments in formulating recommendations to the United States Coast Guard. Public comments or questions will be taken at the discretion of the Designated Federal Officer during the discussion and recommendation portions of the meeting and during the public comment period, see Agenda item (8).

A complete agenda for May 17, 2017 Committee meeting is as follows:

(1) Welcoming remarks.

(2) General Administration and accept minutes from February 21, 2017 National Offshore Safety Advisory Committee public teleconference meeting.

(3) Installation of new members.

(4) Installation of new Committee Chair.

(5) Current Business—Presentation and discussion of progress from the Subcommittee on Safety Management Systems on Vessels Engaging in Well Intervention Activities.

(6) New Business.

(7) Presentations on the following matters:

(a) “The Internet of Things” and how digital engineering can transform the safety and operability of equipment used by the oil and gas industry;

(b) United States Coast Guard Cyber Security Initiatives update;

(c) Update from the Bureau of Safety and Environmental Enforcement;

(d) Eighth Coast Guard District Officer in Charge Marine Inspection Outer Continental Shelf Inspection Program Updates.

(8) Public comment period.

Minutes

Meeting minutes from this public meeting will be available for public view and copying within 90 days following the close of the meeting at the https://homeport.uscg.mil/nosac Web site.

Dated: April 5, 2017.
J.G. Lantz,
Director of Commercial Regulations and Standards.

[FR Doc. 2017-07215 Filed 4-10-17; 8:45 am]

BILLING CODE 9110-04-P